COMMITTEE FOR PURCHASE FROM PEOPLE WHO ARE BLIND OR SEVERELY DISABLED

Procurement List; Additions and Deletions

AGENCY: Committee for Purchase From People Who Are Blind or Severely Disabled.

ACTION: Addition to and Deletions from the Procurement List.

SUMMARY: This action adds services to the Procurement List that will be furnished by a nonprofit agency employing persons who are blind or have other severe disabilities, and deletes products from the Procurement List previously furnished by such agencies.

DATES: Effective Date: 4/11/2011.

ADDRESSES: Committee for Purchase From People Who Are Blind or Severely Disabled, Jefferson Plaza 2, Suite 10800, 1421 Jefferson Davis Highway, Arlington, Virginia 22202-3259.

FOR FURTHER INFORMATION CONTACT: Patricia Briscoe, Telephone: (703) 603-7740, Fax: (703) 603-0655, or e-mail CMTEFedReg@AbilityOne.gov.

SUPPLEMENTARY INFORMATION:

Additions

On 1/14/2011 (76 FR 2673-2674), the Committee for Purchase From People Who Are Blind or Severely Disabled published notices of proposed additions to the Procurement List.

Comments were received from the incumbent contractor opposing adding these services to the Procurement List (PL). The contractor commented that the addition of these services to the PL would result in severe adverse impact to his company. The contractor also questioned whether the particular services identified in this requirement would be suitable or appropriate for a nonprofit agency employing individuals who are blind or severely disabled and whether such a nonprofit would be capable of performing the services.

The Committee for Purchase From People Who Are Blind or Severely Disabled (Committee) administers the AbilityOne® program under the authority of the Javits-Wagner-O'Day Act. Committee responsibilities include identifying products and services produced or provided by qualified nonprofit agencies employing people who are blind or severely disabled that the Committee determines are suitable for procurement by the Government. Prior to adding any project to the PL, the Committee reviews each project for suitability, employment potential, nonprofit agency qualifications and level of impact on the current contractor.

The Committee reviews financial information provided by current contractors to determine whether severe adverse impact will occur if a project is added to the PL. The Committee did so in this instance and disagrees with the contractor's assertion that the addition of this project to the PL will result in severe adverse impact to the contractor company. The Committee also reviewed the specific requirements of this project and determined that this project is suitable for performance by a nonprofit agency employing people who are blind or severely disabled. Placing this project on the PL will result in employment and training opportunities for people with severe disabilities.

Accordingly, following a deliberative review of the facts of this project, the Committee determines that this project is appropriate for the AbilityOne Program and will be added to the Procurement List.

After consideration of the material presented to it concerning capability of qualified nonprofit agencies to provide the services and impact of the additions on the current or most recent contractor, the Committee has determined that the services listed below are suitable for procurement by the Federal Government under 41 U.S.C. 46-48c and 41 CFR 51-2.4.

Regulatory Flexibility Act Certification

I certify that the following action will not have a significant impact on a substantial number of small entities. The major factors considered for this certification were:

1. The action will not result in any additional reporting, recordkeeping or other compliance requirements for small entities other than the small organization that will furnish the services to the Government.

2. The action will result in authorizing small entities to furnish the services to the Government.

3. There are no known regulatory alternatives which would accomplish the objectives of the Javits-Wagner-O'Day Act (41 U.S.C. 46-48c) in connection with the services proposed for addition to the Procurement List.

End of Certification

Accordingly, the following services are added to the Procurement List:

Services

Service Type/Location: Administrative Support Service, Keystone Bldg, 530 Davis Drive, South Campus, 111 T.W. Alexander Drive, Research Triangle Park, NC.

NPA: OE Enterprises, Inc., Hillsborough, NC.

Contracting Activity: Dept of Health and Human Services, National Institutes of Health, Research Triangle Park, NC.

Deletions

On 1/14/2011 (76 FR 2673-2674), the Committee for Purchase From People Who Are Blind or Severely Disabled published notices of proposed deletions from the Procurement List.

After consideration of the relevant matter presented, the Committee has determined that the products listed below are no longer suitable for procurement by the Federal Government under 41 U.S.C. 46-48c and 41 CFR 51-2.4.

Regulatory Flexibility Act Certification

I certify that the following action will not have a significant impact on a substantial number of small entities. The major factors considered for this certification were:

1. The action will not result in additional reporting, recordkeeping or other compliance requirements for small entities.

2. The action may result in authorizing small entities to furnish the products to the Government.

3. There are no known regulatory alternatives which would accomplish the objectives of the Javits-Wagner-O'Day Act (41 U.S.C. 46-48c) in connection with the products deleted from the Procurement List.

End of Certification

Accordingly, the following products are deleted from the Procurement List:

Products

Shim

NSN: 5365-00-159-3781

NSN: 5365-00-159-3792

NPA: The Lighthouse for the Blind, Inc. (Seattle Lighthouse), Seattle, WA

Contracting Activity: Defense Logistics Agency Aviation, Richmond, VA.

Patricia Briscoe,
Deputy Director, Business Operations.

[FR Doc. 2011-5617 Filed 3-10-11; 8:45 am]

BILLING CODE 6353-01-P